SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

SUMMARY: Effective immediately, the membership of the PRB and ERB is as follows:

Performance Review Board

Lucille Marvin, Chairman

Rachel D. Campbell, Member

Craig M. Keats, Member

William Brennan, Alternate Member

Executive Resources Board

Rachel D. Campbell, Chairman

Lucille Marvin, Member

Craig M. Keats, Member

Allison Davis, Alternate Member

FOR FURTHER INFORMATION CONTACT: If you have any questions, please contact Teresa Schlee at teresa.schlee@stb.gov or 202-245-0340.

Jeffrey Herzig,
Clearance Clerk.

[FR Doc. 2019-22995 Filed 10-21-19; 8:45 am]

BILLING CODE 4915-01-P